DEPARTMENT OF ENERGY

Federal Energy Regulatory Commission

[Docket No. RP00-364-000]

Clear Creek Storage Company, L.L.C.; Notice of Tariff Filing

July 6, 2000.

Take notice that on June 30, 2000, Clear Creek Storage Company, L.L.C. (Clear Creek) tendered for filing to become part of its FERC Gas Tariff, Original Volume No. 1, the following tariff sheets, to be effective August 1, 2000:

First Revised Sheet No. 1

First Revised Sheet No. 2

First Revised Sheet No. 24

Original Sheet No. 25

Original Sheet No. 26

First Revised Sheet No. 69

Original Sheet No. 73A

First Revised Sheet No. 74

Original Sheet No. 99

Original Sheet No. 100

Original Sheet No. 101

Original Sheet No. 102

Original Sheet No. 103

Clear Creek states that the proposed tariff sheets, when approved, will enable it to implement unbundled sales service as provided by 18 CFR part 284, subpart J.

Clear Creek explains that on March 2, 1998, it filed an application in Docket No. CP98-256-000, pursuant to section 7 of the Natural Gas Act (NGA), for a certificate of public convenience and necessity to convert a natural gas production reservoir to a natural gas storage facility, to construct appurtenant facilities and to operate the storage field and related facilities for the sole use of Clear Creek's two owners, Questar Energy Trading Company and Montana Power Ventures, Inc.

Clear Creek explains further that on September 1, 1998, the Commission accepted Clear Creek's application and authorized the company to (1) convert a natural gas production reservoir to a gas storage facility, (2) operate the facility on an open-access basis and (3) perform certain storage-related transportation services under Part 284, Subpart G. Clear Creek states that as the holder of a Part 284, Subpart G certificate, the company automatically has blanket authority to provide unbundled sales in accordance with the provisions of Part 284, Subpart J of the Commission's regulations.

Clear Creek explains that although it has blanket authority to provide unbundled firm and interruptible sales of natural gas, Clear Creek's effective FERC Gas Tariff does not contain tariff provisions applicable to an unbundled sales service. Consequently, as required by 18 CFR 284.286 and 284.287, Clear Creek submits proposed tariff sheets that incorporate the provisions of Subpart J and explain how Clear Creek will comply with the Commission's standards applicable to unbundled sales service.

Clear Creek states that a copy of this filing has been served upon its customers and the Public Service Commission of Wyoming.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17557 Filed 7-11-00; 8:45 am]

BILLING CODE 6717-01-M